DEPARTMENT OF COMMERCE

National Oceanic and Atmospheric Administration

[RTID 0648-XB917]

Western Pacific Fishery Management Council; Public Meetings

AGENCY: National Marine Fisheries Service (NMFS), National Oceanic and Atmospheric Administration (NOAA), Commerce.

ACTION: Notice of public meetings.

SUMMARY: The Western Pacific Fishery Management Council (Council) will hold its Social Science Planning Committee (SSPC), Archipelagic Plan Team (APT), and Fishery Data Collection and Research Committee—Technical Committee for the Data Collection Subpanel (FDCRC-TC-DCSP) meetings to discuss and make recommendations on fishery management issues in the Western Pacific Region.

DATES: The meetings will be held between April 14 and April 28, 2022. For specific times and agendas, see SUPPLEMENTARY INFORMATION.

ADDRESSES: The meetings will be held by web conference via Webex. Instructions for connecting to the web conference and providing oral public comments will be posted on the Council website at www.wpcouncil.org. For assistance with the web conference connection, contact the Council office at (808) 522-8220.

FOR FURTHER INFORMATION CONTACT: Kitty M. Simonds, Executive Director, Western Pacific Fishery Management Council; telephone: (808) 522-8220.

SUPPLEMENTARY INFORMATION: The SSPC meeting will be held between 1 p.m. and 4:30 p.m. on April 14, 2022. The APT meeting will be held between 1 p.m. and 5 p.m. on April 19-21, 2022. The FDCRC-TC-DCSP meeting will be held between 1 p.m. and 5 p.m. on April 27-28, 2022. All times listed are Hawaii Standard Time. Public comment periods will be provided in the agendas. The order in which agenda items are addressed may change. The meeting will run as late as necessary to complete scheduled business.

Agenda for the SSPC Meeting

Thursday, April 14, 2022, 1 p.m. to 4:30 p.m.

1. Welcome and introductions

2. Approval of agenda

3. Annual Stock Assessment and Fishery Evaluation (SAFE) Reports

A. Socioeconomic module user survey

B. Socioeconomic modules 2021 report updates

C. Fisher Observations

4. Equity and environmental justice in fishery management

5. Social Science Strategic Plan update

6. Review of SSPC research plan and priorities

7. Project updates

8. Public comment

9. Discussion and recommendations

10. Other business

Agenda for the Archipelagic Plan Team Meeting

Tuesday, April 19, 2022, 1 p.m. to 5 p.m.

1. Welcome and introductions

2. Approval of draft agenda

3. Report on previous APT recommendations and Council actions

4. 2021 Annual SAFE Report

A. Fishery performance

1. Archipelagic fisheries modules

a. American Samoa

1. Bottomfish fishery

2. Ecosystem component fisheries

3. Fisherman's observations

b. Guam

1. Bottomfish fishery

2. Ecosystem component fisheries

3. Fisherman's observations

c. Commonwealth of Northern Mariana Islands (CNMI)

1. Bottomfish fishery

2. Ecosystem component fisheries

3. Fisherman's observations

d. Hawaii

1. Bottomfish fishery

2. Crustacean fishery

3. Precious coral fishery

4. Ecosystem component fisheries

5. Fisherman's observations

2. APT Discussion on improving bycatch reporting

3. Building the Annual SAFE non-commercial fisheries module

a. Territorial non-commercial module

b. Hawaii non-commercial module

4. Discussions

5. Public comment

Wednesday, April 20, 2022, 1 p.m. to 5 p.m.

B. Ecosystem considerations

1. Protected species section

2. Climate, ecosystems and biological section

a. Environmental & climate variables

b. Life history and length-derived variables

c. Biomass estimates for coral reef Ecosystem Components

3. Habitat section—Essential Fish Habitat (EFH) modeling

4. Socioeconomics section

5. Marine planning section

6. Discussions

7. Public Comment

C. Administrative reports

1. Number of federal permits and catch reports

2. Regulatory actions in 2021

3. Discussions

4. Public comment

Thursday, April 21, 2022, 1 p.m. to 5 p.m.

5. APT action items

A. Aquaculture management framework alternatives (Action Item)

B. Alternatives for Northwest Hawaiian Islands fishing regulations (Action Item)

6. Status report on the multifaceted approach to Territorial data collection

7. Main Hawaiian Islands Uku EFH modeling

A. Tier 1 static modeling approach

B. Tier 2 dynamic modeling approach

8. APT discussion on Forage Fish Conservation Act of 2021

9. Discussions

10. Public comment

11. APT recommendations

12. Other Business

Agenda for the Fishery Data Collection and Research Committee—Technical Committee Meeting

Wednesday, April 27, 2022, 1 p.m. to 5 p.m.

1. Welcome and introductions

2. Approval of draft agenda

3. Report on previous Technical Committee recommendations and Council actions

4. Report on the individual jurisdiction data collection improvement work

A. American Samoa

B. Guam

C. CNMI

D. Hawaii

1. Commercial fishery

2. Non-commercial fishery

5. Report on the electronic reporting initiatives

A. Catchit Logit implementation

B. Sellit Logit database migration

C. Mandatory license and reporting regulations

6. Discussions

7. Public comment

Thursday, April 28, 2022, 1 p.m. to 5 p.m.

8. Revisiting and renewing data sharing agreements

9. Review and updates to the Marine Recreational Information Program (MRIP) Regional Implementation Plan

A. American Samoa

B. Guam

C. CNMI

D. Hawaii

10. Consolidation of the new tasks for the MRIP Regional Implementation Plan

11. Discussions

12. Other business

13. Public comment

14. FDCRC-TC-DCSP Recommendations

Special Accommodations

These meetings are physically accessible to people with disabilities. Requests for sign language interpretation or other auxiliary aids should be directed to Kitty M. Simonds, (808) 522-8220 (voice) or (808) 522-8226 (fax), at least 5 days prior to the meeting date.

(Authority: 16 U.S.C. 1801 et seq.)

Dated: March 24, 2022.
Tracey L. Thompson,
Acting Deputy Director, Office of Sustainable Fisheries, National Marine Fisheries Service.

[FR Doc. 2022-06555 Filed 3-28-22; 8:45 am]

BILLING CODE 3510-22-P